ENVIRONMENTAL PROTECTION AGENCY

[EPA-HQ-OECA-2006-0036; FRL-8296-6]

Agency Information Collection Activities; Submission To OMB for Review and Approval; Comment Request; NESHAP for Magnetic Tape Manufacturing Operations (Renewal); EPA ICR Number 1678.06, OMB Control Number 2060-0326

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR which is abstracted below describes the nature of the collection and the estimated burden and cost.

DATES: Additional comments may be submitted on, or before May 10, 2007.

ADDRESSES: Submit your comments, referencing docket ID number EPA-HQ-OECA-2006-0036, to (1) EPA online using www.regulations.gov (our preferred method), or by e-mail to docket.oeca@epa.gov, or by mail to: EPA Docket Center (EPA/DC), Environmental Protection Agency, Enforcement and Compliance Docket and Information Center, mail code 2201T , 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Leonard Lazarus, Environmental Protection Agency, 1200 Pennsylvania Avenue, NW., Washington, DC 20460; telephone number: 202-564-6369; fax number: 202-564-0050; e-mail address: lazarus.leonard@epa.gov.

SUPPLEMENTARY INFORMATION: EPA has submitted the following ICR to OMB for review and approval according to the procedures prescribed in 5 CFR 1320.12. On October 5, 2006, Federal Register (71 FR 58853) EPA sought comments on this ICR pursuant to 5 CFR 1320.8(d). EPA received no comments. Additional comments regarding this ICR should be submitted to EPA and OMB within 30 days of this notice.

EPA has established a public docket for this ICR under docket ID number EPA-HQ-OECA-2006-0036, which is available for public viewing online at http://www.regulations.gov, in person viewing at the Enforcement and Compliance Docket in the EPA Docket Center (EPA/DC), EPA West, Room 3334, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1927.

Use EPA's electronic docket and comment system at http://www.regulations.gov, to submit, or view public comments, access the index listing of the contents of the docket, and to access those documents in the docket that are available electronically. When in the system, select “docket search,” then key in the docket ID number identified above. Please note that EPA's policy is that public comments, whether submitted electronically, or in paper, will be made available for public viewing at http://www.regulations.gov, as EPA receives them and without change, unless the comment contains copyrighted material, Confidential Business Information (CBI), or other information whose public disclosure is restricted by statute. For further information about the electronic docket, go to www.regulations.gov.

Title: NESHAP for Magnetic Tape Manufacturing Operations (40 CFR Part 63, Subpart EE).

ICR Numbers: EPA ICR Number 1678.06, OMB Control Number 2060-0326.

ICR Status: This ICR is scheduled to expire on May 31, 2007. Under OMB regulations, the Agency may continue to conduct or sponsor the collection of information while this submission is pending at OMB. An Agency may not conduct, or sponsor, and a person is not required to respond to, a collection of information unless it displays a currently valid OMB control number. The OMB control numbers for EPA's regulations in title 40 of the CFR, after appearing in the Federal Register when approved, are listed in 40 CFR part 9, and displayed either by publication in the Federal Register, or by other appropriate means, such as on the related collection instrument or form, if applicable. The display of OMB control numbers in certain EPA regulations is consolidated in 40 CFR part 9.

Abstract: Owners or operators of magnetic tape manufacturing operations must make the following one-time-only reports: notification of the date of construction or reconstruction; notification of the anticipated and actual dates of startup; notification of any physical, or operational change to an existing facility which may increase the regulated pollutant emission rate; notification of the date of the initial performance test; and the results of the initial performance test. Owners, or operators also are required to maintain records of the occurrence and duration of any startup, shutdown, or malfunction in the operation of an affected facility. Each owner, or operator of an affected magnetic tape coating operation shall install, calibrate, maintain, and operate a monitoring device that continuously measures control device efficiency. Recordkeeping requirements include records of the freeboard ratio, compliance monitoring system (CMS) maintenance and calibration, performance tests, material balance calculation, and hazardous air pollutant (HAP) usage.

Burden Statement: The annual public reporting and recordkeeping burden for this collection of information is estimated to average 200 hours per response. Burden means the total time, effort, or financial resources expended by persons to generate, maintain, retain, or disclose, or provide information to, or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit, or otherwise disclose the information.

Respondents/Affected Entities: Owners or operators of magnetic tape manufacturing operations.

Estimated Number of Respondents: 6.

Frequency of Response: Initially, on occasion, semiannually, quarterly.

Estimated Total Annual Hour Burden: 3,395.

Estimated Total Annual Cost: $264,722, which includes $11,000 annualized capital cost, $36,000 O&M costs, and $217,722 labor costs.

Changes in the Estimates: There is no change in the labor hours, or cost in this ICR compared to the previous ICR. This is due to two considerations. First, the regulations have not changed during the past three years and are not anticipated to change in the next three years. Second, the growth rate for the industry is very low, negative, or non-existent, so there is no significant change in the overall burden. Because there are no changes in the regulatory requirements and there is no significant industry growth, the labor hours and cost figures in the previous ICR are used in this ICR, and there is no change in burden to industry.

Dated: March 30, 2007.
Oscar Morales,
Director, Collection Strategies Division.

[FR Doc. E7-6712 Filed 4-9-07; 8:45 am]

BILLING CODE 6560-50-P